DEPARTMENT OF STATE

[Public Notice: 11633]

Imposition of Missile Proliferation Sanctions on Three Entities in the People's Republic of China (PRC)

ACTION: Notice.

SUMMARY: A determination has been made that PRC entities have engaged in activities that require the imposition of measures pursuant to the Arms Export Control Act, as amended, and the Export Administration Act of 1979, as amended.

FOR FURTHER INFORMATION CONTACT: Pam Durham, Office of Missile, Biological, and Chemical Nonproliferation, Bureau of International Security and Nonproliferation, Department of State (202-647-4930). On import ban issues, Lauren Sun, Assistant Director for Regulatory Affairs, Department of the Treasury (202-622-4855). On U.S. Government procurement ban issues, Eric Moore, Office of the Procurement Executive, Department of State (703-875-4079).

SUPPLEMENTARY INFORMATION: Pursuant to Section 73(a)(1) of the Arms Export Control Act [22 U.S.C. 2797b(a)(1)]; Section 11B(b)(1) of the Export Administration Act of 1979 [ (50 U.S.C. 4612)], as carried out under E.O. 13222 of August 17, 2001 (hereinafter cited as the “Export Administration Act of 1979”); [Note: Although the Export Administration Act of 1979 lapsed in 2001 and was partially repealed in 2018, authorities under Section 11B continue to be carried out under the International Emergency Economic Powers Act, 50 U.S.C. 1701-1708, pursuant to the emergency declared in E.O. 13222 of August 17, 2001, which has been kept in effect by successive Presidential Notices, the most recent of which was the Notice of August 6, 2021, 86 FR 43901, (Aug. 10, 2021). End Note], the U.S. Government has determined that the following foreign persons have engaged in missile technology proliferation activities that require the imposition of the sanctions described in Sections 73(a)(2)(B) and (C) of the Arms Export Control Act [22 U.S.C. 2797b(a)(2)(B) and (C)] and Sections 11B(b)(1)(B)(ii) and (iii) of the Export Administration Act of 1979 [50 U.S.C. app. 2410b(b)(1)(B)(ii) and (iii)] on these entities:

China Aerospace Science and Technology Corporation (CASC) First Academy, and its sub-units and successors;

China Aerospace Science and Industry Corporation (CASIC) Fourth Academy, and its sub-units and successors; and

Poly Technologies Incorporated (PTI), and its sub-units and successors.

Accordingly, the following sanctions are being imposed on these entities for two years:

(A) Denial of all new individual licenses for the transfer to the sanctioned entities of all items on the U.S. Munitions List and all items the export of which is controlled under the Export Control Reform Act (ECRA) of 2018;

(B) Denial of all U.S. Government contracts with the sanctioned entities; and

(C) Prohibition on the importation into the United States of all products produced by the sanctioned entities.

With respect to items controlled pursuant to the ECRA of 2018, the above export sanction only applies to exports made pursuant to individual export licenses.

These measures shall be implemented by the responsible departments and agencies of the United States Government as provided in E.O. 12851 of June 11, 1993.

Choo S. Kang,
Acting Assistant Secretary, International Security and Nonproliferation, Department of State.

[FR Doc. 2022-01117 Filed 1-20-22; 8:45 am]

BILLING CODE 4710-25-P